DEPARTMENT OF ENERGY

Federal Energy Regulatory Commission

Combined Notice of Filings

Take notice that the Commission has received the following Natural Gas Pipeline Rate and Refund Report filings:

Filings Instituting Proceedings

Docket Numbers: RP15-4-000.

Applicants: Trunkline Gas Company, LLC.

Description: § 4(d) rate filing per 154.204: Fuel Filing on 10-1-14 to be effective 11/1/2014.

Filed Date: 10/1/14.

Accession Number: 20141001-5073.

Comments Due: 5 p.m. ET 10/14/14.

Docket Numbers: RP15-5-000.

Applicants: Southwest Gas Storage Company.

Description: § 4(d) rate filing per 154.204: Fuel Filing on 10-1-2014 to be effective 11/1/2014.

Filed Date: 10/1/14.

Accession Number: 20141001-5076.

Comments Due: 5 p.m. ET 10/14/14.

Docket Numbers: RP15-6-000.

Applicants: Columbia Gas Transmission, LLC.

Description: § 4(d) rate filing per 154.204: Section 19 Revision—Penalties to be effective 11/1/2014.

Filed Date: 10/1/14.

Accession Number: 20141001-5083.

Comments Due: 5 p.m. ET 10/14/14.

Docket Numbers: RP15-7-000.

Applicants: Natural Gas Pipeline Company of America.

Description: § 4(d) rate filing per 154.204: Removal of Expired/Expiring Agreement to be effective 11/1/2014.

Filed Date: 10/1/14.

Accession Number: 20141001-5129.

Comments Due: 5 p.m. ET 10/14/14.

Docket Numbers: RP15-8-000.

Applicants: WBI Energy Transmission, Inc.

Description: Annual Report of Penalty Revenue Credits of WBI Energy Transmission, Inc.

Filed Date: 10/1/14.

Accession Number: 20141001-5133.

Comments Due: 5 p.m. ET 10/14/14.

Docket Numbers: RP15-9-000.

Applicants: Northern Natural Gas Company.

Description: § 4(d) rate filing per 154.204: 20141001 West Leg 2014 Expansion Negotiated Rate to be effective 11/1/2014.

Filed Date: 10/1/14.

Accession Number: 20141001-5136.

Comments Due: 5 p.m. ET 10/14/14.

Docket Numbers: RP15-10-000.

Applicants: Central New York Oil And Gas, L.L.C.

Description: § 4(d) rate filing per 154.204: Filing of Revised Nonconforming Agreement and Negotiated Rate Agreements to be effective 11/1/2014.

Filed Date: 10/1/14.

Accession Number: 20141001-5142.

Comments Due: 5 p.m. ET 10/14/14.

Docket Numbers: RP15-11-000.

Applicants: Panhandle Eastern Pipe Line Company, LP.

Description: § 4(d) rate filing per 154.204: Fuel Filing on 10-1-14 to be effective 11/1/2014.

Filed Date: 10/1/14.

Accession Number: 20141001-5145.

Comments Due: 5 p.m. ET 10/14/14.

Docket Numbers: RP15-12-000.

Applicants: Guardian Pipeline, L.L.C.

Description: § 4(d) rate filing per 154.204: Transporter's Use Gas Annual Filing 2014 to be effective 11/1/2014.

Filed Date: 10/1/14.

Accession Number: 20141001-5162.

Comments Due: 5 p.m. ET 10/14/14.

Docket Numbers: RP15-13-000.

Applicants: Natural Gas Pipeline Company of America.

Description: § 4(d) rate filing per 154.204: Negotiated Rate—J. Aron & Company to be effective 10/1/2014.

Filed Date: 10/1/14.

Accession Number: 20141001-5171.

Comments Due: 5 p.m. ET 10/14/14.

Docket Numbers: RP15-14-000.

Applicants: Texas Gas Transmission, LLC.

Description: § 4(d) rate filing per 154.403(d)(2): 2014 Fuel Tracker Filing to be effective 11/1/2014.

Filed Date: 10/1/14.

Accession Number: 20141001-5190.

Comments Due: 5 p.m. ET 10/14/14.

Docket Numbers: RP15-15-000.

Applicants: Gulf South Pipeline Company, LP.

Description: § 4(d) rate filing per 154.204: Cap Rel Neg Rate Agmt (JW 34690 to QWest 43161) to be effective 10/1/2014.

Filed Date: 10/1/14.

Accession Number: 20141001-5192.

Comments Due: 5 p.m. ET 10/14/14.

Docket Numbers: RP15-16-000.

Applicants: Gulf South Pipeline Company, LP.

Description: § 4(d) rate filing per 154.204: Cap Rel Neg Rate Agmt (QEP 37657 to Trans LA 43176) to be effective 10/1/2014.

Filed Date: 10/1/14.

Accession Number: 20141001-5193.

Comments Due: 5 p.m. ET 10/14/14.

Docket Numbers: RP15-17-000.

Applicants: Viking Gas Transmission Company.

Description: § 4(d) rate filing per 154.204: Bi-Directional Transportation to be effective 11/1/2014.

Filed Date: 10/1/14.

Accession Number: 20141001-5206.

Comments Due: 5 p.m. ET 10/14/14.

Docket Numbers: RP15-18-000.

Applicants: Transcontinental Gas Pipe Line Company.

Description: § 4(d) rate filing per 154.204: GT&C Section 19 DPE Provisions to be effective 11/1/2014.

Filed Date: 10/1/14.

Accession Number: 20141001-5208.

Comments Due: 5 p.m. ET 10/14/14.

Docket Numbers: RP15-19-000.

Applicants: Texas Eastern Transmission, LP.

Description: § 4(d) rate filing per 154.204: TEAM 2014 In-Service Non-conforming Agreements to be effective 11/1/2014.

Filed Date: 10/1/14.

Accession Number: 20141001-5344.

Comments Due: 5 p.m. ET 10/14/14.

Docket Numbers: RP15-20-000.

Applicants: Texas Eastern Transmission, LP.

Description: Compliance filing per 154.203: TEAM 2014 Project In-Service NegRate Compliance—CP13-84 to be effective 11/1/2014.

Filed Date: 10/1/14.

Accession Number: 20141001-5350.

Comments Due: 5 p.m. ET 10/14/14.

Docket Numbers: RP15-21-000.

Applicants: Carolina Gas Transmission Corporation.

Description: § 4(d) rate filing per 154.204: 2014 FRQ & TDA Filing to be effective 11/1/2014.

Filed Date: 10/1/14.

Accession Number: 20141001-5358.

Comments Due: 5 p.m. ET 10/14/14.

Docket Numbers: RP15-22-000.

Applicants: Texas Eastern Transmission, LP.

Description: Compliance filing per 154.203: TEAM 2014 Project In-Service Recourse Rates Compliance—CP13-84 to be effective 11/1/2014.

Filed Date: 10/1/14.

Accession Number: 20141001-5370.

Comments Due: 5 p.m. ET 10/14/14.

Docket Numbers: RP15-23-000.

Applicants: Transwestern Pipeline Company, LLC.

Description: § 4(d) rate filing per 154.312: Transwestern Rate Case to be effective 11/1/2014.

Filed Date: 10/1/14.

Accession Number: 20141001-5448.

Comments Due: 5 p.m. ET 10/14/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-526-003.

Applicants: Gulf South Pipeline Company, LP.

Description: Compliance filing per 154.203: Filing to Incorporate Approved Changes and Move Into Effect November 1, 2014 to be effective 11/1/2014.

Filed Date: 10/1/14.

Accession Number: 20141001-5089.

Comments Due: 5 p.m. ET 10/14/14.

Docket Numbers: RP13-526-004.

Applicants: Gulf South Pipeline Company, LP.

Description: Gulf South Pipeline Company, LP submits tariff filing per 154.203: Correction to Compliance Filing to be effective 11/1/2014.

Filed Date: 10/1/14.

Accession Number: 20141001-5089.

Comments Due: 5 p.m. ET 10/14/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2014.
Nathaniel J. Davis, Sr.,
Deputy Secretary.

[FR Doc. 2014-24126 Filed 10-8-14; 8:45 am]

BILLING CODE 6717-01-P